FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than March 25, 2005.

A.Federal Reserve Bank of Atlanta (Andre Anderson, Vice President) 1000 Peachtree Street, N.E., Atlanta, Georgia 30303:

1. Financial Corporation of Louisiana Employee Stock Ownership Plan and Argent Trust, Crowley, Louisiana; to acquire voting shares of Financial Corporation of Louisiana, Crowley, Louisiana, and thereby indirectly acquire voting shares of First National Bank of Louisiana, Crowley, Louisiana, and Rayne State Bank & Trust Company, Rayne, Louisiana.

B. Federal Reserve Bank of Kansas City (Donna J. Ward, Assistant Vice President) 925 Grand Avenue, Kansas City, Missouri 64198-0001:

1. David Buford, Stephen Buford, Sam Buford, Ernest Dillard, Sheila Dillard, Aaron Dillard, and Hannah Dillard, all of Tulsa, Oklahoma; Sharon Linsenmeyer, Beatrice, Nebraska; and Sarah Dillard, Tampa, Florida; to acquire voting shares of Healthcare Bancorp, Inc., and thereby indirectly acquire voting shares of First BankCentre, both of Broken Arrow, Oklahoma.

Board of Governors of the Federal Reserve System, March 7, 2005.
Robert deV. Frierson,
Deputy Secretary of the Board.

[FR Doc. 05-4788 Filed 3-10-05; 8:45 am]

BILLING CODE 6210-01-S